NATIONAL FOUNDATION ON THE ARTS AND THE HUMANITIES

Meetings of Humanities Panel; Correction

AGENCY: National Endowment for the Humanities.

ACTION: Notice of Meetings; correction.

SUMMARY: The National Endowment for the Humanities published a document in the Federal Register of September 15, 2014, concerning notice of meetings of the Humanities Panel during the month of October 2014. Three meetings were added to the schedule after the notice was posted. All other information remains the same.

FOR FURTHER INFORMATION CONTACT: Lisette Voyatzis, (202) 606-8322.

Correction

In the Federal Register of September 15, 2014, in FR Doc. 2014-21962, on page 55018, in the third column, replace the “Summary” caption with:

SUMMARY: The National Endowment for the Humanities will hold seventeen meetings of the Humanities Panel, a federal advisory committee, during October, 2014. The purpose of the meetings is for panel review, discussion, evaluation, and recommendation of applications for financial assistance under the National Foundation on the Arts and Humanities Act of 1965.

In the Federal Register of September 15, 2014, in FR Doc. 2014-21962, on page 55019, in the second column after line thirty-seven (37) add:

15. DATE: October 28, 2014

TIME: 8:30 a.m. to 5:00 p.m.

ROOM: Conference Call

This meeting will discuss applications for the Enduring Questions: Pilot Course Grants program, submitted to the Division of Education Programs.

16. DATE: October 29, 2014

TIME: 8:30 a.m. to 5:00 p.m.

ROOM: Conference Call

This meeting will discuss applications for the Enduring Questions: Pilot Course Grants program, submitted to the Division of Education Programs.

17. DATE: October 30, 2014

TIME: 8:30 a.m. to 5:00 p.m.

ROOM: Conference Call

This meeting will discuss applications for the Enduring Questions: Pilot Course Grants program, submitted to the Division of Education Programs.

Dated: October 10, 2014.
Lisette Voyatzis,
Committee Management Officer.

[FR Doc. 2014-24594 Filed 10-15-14; 8:45 am]

BILLING CODE 7536-01-P